DEPARTMENT OF DEFENSE

Department of the Army

Availability for Non-Exclusive, Exclusive, or Partially Exclusive Licensing of U.S. Patent Concerning Optical Data Storage

AGENCY: Department of the Army, DoD.

ACTION: Notice.

SUMMARY: In accordance with 37 CFR 404.6 and 404.7, announcement is made of the availability for licensing of the invention set forth in U.S. Patent No. 7,016,292 entitled “Geometry for Optical Data Storage,” issued on March 21, 2006. The United States Government, as represented by the Secretary of the Army, has rights in this invention.

ADDRESSES: Office of Research and Technology Applications, SDMC-RDTC-TDL (Ms. Susan D. McRae), Bldg. 5220, Von Braun Complex, Redstone Arsenal, AL 35898.

FOR FURTHER INFORMATION CONTACT: Ms. Joan Gilsdorf, Patent Attorney, e-mail: joan.gilsdorf@smdc.army.mil, (256) 955-3213 or Ms. Susan D. McRae, Office of Research and Technology Applications, e-mail: susan.mcrae@smdc.army.mil; (256) 955-1501.

SUPPLEMENTARY INFORMATION: The invention pertains to an optical data storage device having an optically readable disk with a body extending in a radial direction from a central axis. The body has a side and an elongated portion that extends along the side. The elongated portion includes a first side surface and a second side surface. A plurality of optically readable discontinuities may be located on each of the first side surface and the second side surface of the elongated portion.

Brenda S. Bowen,
Army Federal Register Liaison Officer.

[FR Doc. 07-3396 Filed 7-11-07; 8:45 am]

BILLING CODE 3710-08-M